DEPARTMENT OF ENERGY

Federal Energy Regulatory Commission

[Docket No. IC01-719B-001]

Proposed Renewal of Information Collection and Request for Comments

November 7, 2001.

AGENCY: Federal Energy Regulatory Commission.

ACTION: Request for Office of Management and Budget to renew information collection and request for comments.

SUMMARY: The Federal Energy Regulatory Commission (Commission) is providing notice of a request to the Office of Management and Budget (OMB) for renewal of the Commission's May 11, 2001 request for a collection of information in connection with the California electricity markets, and is soliciting public comment on that information collection.

DATES: Comments are requested on or before January 6, 2002.

ADDRESSES: Send comments to: (1) Michael Miller, Office of the Chief Information Officer, CI-1, Federal Energy Regulatory Commission, 888 First Street NE, Washington, DC 20426. Mr. Miller may be reached by telephone at (202) 208-1415 and by e-mail at mike.miller@ferc.fed.us; and (2) Amy Farrell, FERC Desk Officer, Office of Information and Regulatory Affairs, Office of Management and Budget, Room 10202 NEOB, 725 17th Street NW., Washington, DC 20503. Ms. Farrell may be reached by telephone at (202) 395-7318 or by fax at (202) 395-7285.

FOR FURTHER INFORMATION CONTACT: Stuart Fischer, Office of the General Counsel, Federal Energy Regulatory Commission, (202) 208-2103.

SUPPLEMENTARY INFORMATION: The Federal Power Act directs the Commission to ensure just and reasonable rates for transmission and wholesale sales of electricity in interstate commerce. See 16 U.S.C. 824e(a). To enable the Commission to fulfill this duty, the Federal Power Act also authorizes the Commission to conduct investigations of, and collect information from, public utilities. See 16 U.S.C. 825, 825c, 825f, and 825j. Commission staff has been investigating the California electricity market, which in late 2000 and early 2001 was in a state of emergency with prices at extremely high levels and, on some days, rotating blackouts.

One of the likely reasons for the high prices was forced and scheduled outages by electric generators in California. On most days between January and May 2001, the California Independent System Operator (ISO) reported outages of well over 10,000 megawatts for generating plants in California. In addition to causing higher prices, the outages limited the availability of electric power in California, leading the ISO to order rotating blackouts in the state to preserve the transmission system. On April 26, 2001, the Commission issued an Order Establishing Prospective Mitigation and Monitoring Plan for the California Wholesale Electric Markets and Establishing An Investigation of Public Utility Rates in Wholesale Western Energy Markets, San Diego Gas and Electric Company v. Sellers of Energy and Ancillary Service et al, 95 FERC ¶ 61,115 (2001) (the April 26 Order), Order on Rehearing, 95 FERC ¶ 61,418 (June 19, 2001) (the June 19 Order). In the April 26 Order, the Commission stated that:

the Commission staff will continue its independent monitoring of generating unit outages as well as the real-time and forward price monitoring of both electric and natural gas commodity and transmission prices. Knowledge of these conditions on an ongoing and up-to-date basis is essential, if the Commission is to provide an independent and informed assessment of the key elements of the mitigation plan, such as the level of unplanned outages and conditions that could cause price mitigation to be invoked.

95 FERC at 61,360.

To implement its monitoring efforts, on May 11, 2001, the Commission sought a clearance from OMB to collect information electronically from generators on plant outages within 24 hours of their occurrence and conclusion, whether forced, scheduled or otherwise. 66 FR 24353 (May 14, 2001). OMB granted the Commission's request on May 17, 2001, with an expiration date of November 30, 2001. Currently, the Commission requires this information from all non-municipal generators that sell into the ISO market, are not investor owned utilities, and own, operate or control either one generation unit with a capacity of 30 MW or more, or generation units aggregating 50 MW or more in capacity. Municipal generators that meet the generation capacity parameters are requested to supply the information on a voluntary basis. For the purposes of the data collection, Commission staff considers an outage partial if it reduces the available output of a generation unit below its nameplate rated capacity or below the reliable capacity of the unit as determined by contract with the California ISO. The Commission has treated the information provided by the generators as non-public pursuant to the provisions of 18 CFR 1b.9.

The Commission proposes that the information continue to be provided through a template that can be requested from Commission staff at the E-Mail address CALoutages@ferc.fed.us. That electronic address is also the address to which the Commission requests that generators continue to send the outage information.

The Commission believes that federal oversight of California generator outages in general, and the collection of outage data in particular, played an important role in the maintenance of an adequate system supply and low electricity prices in California this past summer. Since the data collection began, Commission staff has reviewed the outage incident reports submitted and has contacted generators, when warranted, for further information. Staff has also utilized the data to investigate or mediate disputes between the ISO and generators. For example, Commission staff has resolved disputes between generators and the ISO involving the current generating capacity of 30 units and is currently attempting to resolve additional similar disputes. The Commission believes that these efforts have played a significant role in helping to preserve system reliability on the ISO grid.

Because the Commission is potentially requesting information from a large number of generators (over 100) concerning future outages, the data collection may be subject to the Paperwork Reduction Act, which requires OMB to review certain federal reporting requirements. 44 U.S.C. 3507. Because the current authorization will expire on November 30, 2001, the Commission is requesting renewal of the data collection until the expiration of the mitigation plan implemented by the Commission in its April 26 Order and amended in the June 19 Order. As of now, pursuant to the June 19 Order, the mitigation plan is to remain in effect until September 30, 2002. If the Commission subsequently extends the date of the expiration of the mitigation plan, the Commission proposes to continue the information collection through the new expiration date, recognizing that the maximum clearance OMB can grant under the Paperwork Reduction Act is three years, or, in this case, through November 30, 2004.

While the California electric market had adequate generation supply and stable prices this past summer, the Commission is concerned that outages could cause supply shortages and higher prices during the next ten months. From November 2000 through May 2001, California endured tight supplies, high outage rates (often exceeding 10,000 MW per day), extremely high prices and, on seven occasions, rolling blackouts. Between January 16, 2001 and February 16, 2001, the ISO declared a record 32 straight days of Stage 3 emergencies, the highest state of emergency. During the winter and spring, many generators will go off-line for weeks or months to perform scheduled maintenance or to install equipment to comply with upcoming, more stringent environmental standards. Adding to the potential supply problem in the near term is that California traditionally has obtained less imported power during the winter months as its sources provide power to their own loads and export power to the Pacific Northwest.

Generator outages affect the supply of electricity and prices in the market each day in which they occur. By continuing to request that generators provide information on outages within 24 hours of when they begin and end, the Commission staff will be able to analyze outages quickly and, if necessary, investigate outages in real time when the effect on prices is occurring. This analysis will include determining whether generators that have taken plants out of service with the permission of the California ISO for scheduled maintenance return those plants to service promptly and do not improperly extend those outages to influence market prices.

The electronic template asks for the following data: Date of Report; Outage Report Type (Beginning or Ending); Company Name; Name of the Contact Person and Telephone Number; Unit Name; Year Unit Was Built; Unit Type; Is the Unit RMR (Reliability-Must-Run) or Non-RMR; Fuel Type; Nameplate Capacity; Re-Rated Capacity; Output Before Outage; Outage Type (Forced or Scheduled); Complete or Partial Outage; Megawatts Out; Date Outage Began; Time Outage Began; Date Outage Ended or Expected to End; Time Outage Ended or Expected to End; Reason for Outage; and whether a post-outage report was created. Most of the information asked for on the template, such as the identification and operating characteristics of a generation unit, remain constant and do not require additional time to compile after the first report. The only new data in later reports are in those fields asking for information about an outage.

The Commission is seeking to retain the existing reporting format, but is requesting one change in the scope of the reporting requirements. Specifically, the Commission seeks to require generators to file reports of outages that occur for economic reasons. Last summer, the ISO began to grant permission for “economic” outages. An “economic” outage is an outage in which the ISO allows a generator to take an uneconomic unit out of service because it will not be needed for dispatch. In recent months, these “economic” outages have become a significant issue. The ISO alleges that some units are being taken out of service without ISO permission and that others are not being brought back on line when the ISO withdraws permission. On the other hand, generators allege that the ISO is granting permission for “economic” outages on an inconsistent basis and is improperly withdrawing that permission. To monitor generation supply effectively in California and ensure just and reasonable rates, it is now important to collect data on outages for economic reasons as well as outages for mechanical reasons.

The Commission estimates that between 100 and 125 entities owning generation could be subject to this data request, but that would only be if co-generation units began selling into the ISO market as opposed to selling their power exclusively to the investor-owned transmission utilities in California (Pacific Gas and Electric Company, San Diego Gas & Electric Company and Southern California Edison Company). During the first five months of the currently approved data collection, 22 different generators, including four municipalities, submitted outage reports. Many entities own several generation units, so the actual number of reports submitted by each entity has varied.

Between May 23, 2001, when the Commission began receiving the first outage reports, and October 23, 2001, the Commission received a total of 1,839 outage reports by a total of 22 generators. (Many generators have multiple units and submitted separate outage reports for each one.) Extrapolating this five-month total for the expected ten-month period of the renewed clearance (assuming that the Commission mitigation plan expires, as is currently proposed, on September 30, 2002), the Commission anticipates that there would be a total of 3,678 reports filed during the upcoming ten-month period. (We note that the May 11 OMB Request estimated that there would be 4,038 reports filed during the entire six-month period of the current clearance. This was before Commission staff excluded from the reporting requirements co-generation units that did not sell into the ISO market from the reporting requirements.)

Because Commission staff has created a pre-existing template, generators need not take any time to develop a reporting format. Moreover, all of the generators that previously submitted outage reports already have the fixed items (such as Nameplate Capacity and Fuel Type) filled in for units that have been the subject of prior reports. The Commission estimates that it would take each generator that previously submitted an outage report for a generation unit approximately 20 minutes to fill out a subsequent report (because much of the information remains constant). The Commission estimates that a generator that has not previously filed an outage report for a unit will take approximately one hour to fill out an initial report. Because all of the major non-municipal generators which are subject to the data collection have already submitted initial outage reports for many of their units, the Commission does not anticipate a large number of new entities filing first-time reports. As such, the Commission anticipates that very few entities will need the one hour to file the first report for a unit.

As stated above, for the first five months of the current approved data collection, the Commission received 1,839 electronic outage incident reports, which extrapolates to 3,678 reports for the proposed ten-month extension period. Assuming a total of 3,678 outage reports for the ten months for which this information collection is requested, the total number of hours it would take to comply with the reporting requirement would be approximately 1,278 hours (78 hours for initial submissions and 1,200 hours for subsequent submissions, assuming 20 minutes per subsequent submission). Commission staff estimates a cost of $50 per hour for complying with the reporting requirement, based on salaries for professional and clerical staff, as well as direct and indirect overhead costs. Therefore, the total estimated cost of compliance would be $63,900.

Commission staff will submit this reporting requirement to OMB for approval. OMB's regulations describe the process that federal agencies must follow in order to obtain OMB approval of reporting requirements. See 5 CFR part 1320. If OMB approves a reporting requirement, it will assign an information collection control number to that requirement. If a request for information subject to OMB review does not display a valid control number, or if the agency has not provided a justification as to why the control number cannot be displayed, then the recipient is not required to respond.

OMB requires federal agencies seeking approval of reporting requirements to allow the public an opportunity to comment on the proposed reporting requirement.5 CFR 1320.5(a)(1)(iv). Therefore, the Commission solicits comments on:

(1) Whether the collection of the information is necessary for the proper performance of the Commission's functions, including whether the information will have practical utility;

(2) The accuracy of Commission staff's estimate of the burden of the collection of this information, including the validity of the methodology and assumptions used;

(3) The quality, utility, and clarity of the information to be collected; and

(4) How to minimize the burden of the collection of this information on respondents, including the use of appropriate automated electronic, mechanical, or other forms of information technology.

Linwood A. Watson, Jr.,
Acting Secretary.

[FR Doc. 01-28467 Filed 11-13-01; 8:45 am]

BILLING CODE 6717-01-P